DEPARTMENT OF COMMERCE

National Oceanic and Atmospheric Administration

RIN 0648-XA806

Marine Mammals; File No. 16553

AGENCY: National Marine Fisheries Service (NMFS), National Oceanic and Atmospheric Administration (NOAA), Commerce.

ACTION: Notice; issuance of permit.

SUMMARY: Notice is hereby given that a permit has been issued to Brent Stewart, Ph.D., J.D., Hubbs SeaWorld Research Institute, 2595 Ingraham Street, San Diego, CA 92109 to conduct research on California sea lions (Zalophus californianus), northern elephant seals (Mirounga angustirostris), and harbor seals (Phoca vitulina).

ADDRESSES: The permit and related documents are available for review upon written request or by appointment in the following offices:

Permits and Conservation Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

FOR FURTHER INFORMATION CONTACT: Carrie Hubard or Amy Sloan, (301) 427-8401.

SUPPLEMENTARY INFORMATION: On August 17, 2011, notice was published in the Federal Register (76 FR 51002) that a request for a permit to conduct research on three pinniped species had been submitted by the above-named applicant. The requested permit has been issued under the authority of the Marine Mammal Protection Act of 1972, as amended (16 U.S.C. 1361 et seq.) and the regulations governing the taking and importing of marine mammals (50 CFR part 216).

Permit No. 16553 authorizes Dr. Stewart to continue a long term study on the comparative ecology, demography, community ecology, foraging patterns, pathology and phenology of pinniped species in California and to further characterize the resources and habitats used by each species. California sea lions, northern elephant seals, and harbor seals may be captured and sampled at several sites: San Nicolas Island, San Miguel Island, Santa Rosa Island, Santa Cruz Island, Piedras Blancas, Cape San Martin, and Gorda. Some animals will only receive a flipper tag or a dye mark. Other animals may be physically or chemically restrained; measured and weighed; have a variety of samples taken, including: Blood, skin, blubber, and mucus membrane swabs; and have tracking or data recording instruments attached. The permit also authorizes up to four unintentional research-related mortalities of each species annually. The permit is valid through October 31, 2016.

In compliance with the National Environmental Policy Act of 1969 (42 U.S.C. 4321 et seq.), a final determination has been made that the activity proposed is categorically excluded from the requirement to prepare an environmental assessment or environmental impact statement.

Dated: November 1, 2011.
P. Michael Payne,
Chief, Permits and Conservation Division, Office of Protected Resources, National Marine Fisheries Service.

[FR Doc. 2011-28768 Filed 11-4-11; 8:45 am]

BILLING CODE 3510-22-P